DEPARTMENT OF THE TREASURY

Financial Crimes Enforcement Network

Agency Information Collection Activities; Proposed Collection; Comment Request; Beneficial Ownership Information Reports

AGENCY: Financial Crimes Enforcement Network (FinCEN), Treasury.

ACTION: Notice and request for comments.

SUMMARY: FinCEN invites all interested parties to comment on the report that will be used to collect beneficial ownership information, as required by the Beneficial Ownership Information Reporting Requirements final rule that was published on September 30, 2022. The details included in the information collection are listed below. This request for comment is made pursuant to the Paperwork Reduction Act of 1995.

DATES: Written comments are welcome and must be received on or before March 20, 2023.

ADDRESSES: Comments may be submitted by any of the following methods:

• Federal E-rulemaking Portal: http://www.regulations.gov. Follow the instructions for submitting comments. Refer to Docket Number FINCEN-2023-0002 and the specific Office of Management and Budget (OMB) control number 1506-0076.

• Mail: Policy Division, Financial Crimes Enforcement Network, P.O. Box 39, Vienna, VA 22183. Refer to Docket Number FINCEN-2023-0002 and OMB control number 1506-0076.

Please submit comments by one method only. Comments will be reviewed consistent with the Paperwork Reduction Act of 1995 (PRA) and applicable OMB regulations and guidance. Comments submitted in response to this notice will become a matter of public record. Therefore, you should submit only information that you wish to make publicly available.

FOR FURTHER INFORMATION CONTACT: The FinCEN Resource Center at 1-800-767-2825 or electronically at https://www.fincen.gov/contact.

SUPPLEMENTARY INFORMATION:

I. Statutory and Regulatory Provisions

FinCEN issued the Beneficial Ownership Information Reporting Requirements final rule on September 30, 2022 (“final BOI reporting rule”).¹ The final BOI reporting rule requires certain legal entities to file with FinCEN reports that identify the beneficial owners of the entity. Entities created or registered to do business on or after January 1, 2024, must also identify the individual who directly filed the document with specified governmental authorities that created the entity or registered it to do business, as well as the individual who was primarily responsible for directing or controlling such filing if more than one individual was involved in the filing of the document. Further, the regulations describe who must file a report, what information must be provided, and when a report is due. Entities must certify that the report is true, correct, and complete.

¹ 87 FR 59498 (Sept. 30, 2022).

These regulations implement Section 6403 of the Corporate Transparency Act (CTA), enacted into law as part of the National Defense Authorization Act for Fiscal Year 2021 (NDAA).² The requirements are intended to help prevent and combat money laundering, terrorist financing, corruption, tax fraud, and other illicit activity, while minimizing the burden on reporting entities.

² Specifically, the CTA is Title LXIV of the William M. (Mac) Thornberry National Defense Authorization Act for Fiscal Year 2021, Public Law 116-283 (Jan. 1, 2021). Division F of the NDAA is the Anti-Money Laundering Act of 2020, which includes the CTA. Section 6403 of the CTA, among other things, amends the Bank Secrecy Act (BSA) by adding a new section 5336, Beneficial Ownership Information Reporting Requirements, to subchapter II of chapter 53 of title 31, United States Code.

II. Paperwork Reduction Act of 1995 ³

³ Public Law 104-13, 44 U.S.C. 3506(c)(2)(A).

Title: Beneficial Ownership Information (BOI) Reports.

OMB Control Number: 1506-0076.

Type of Review: Regular.

Description: In accordance with the CTA, the rule imposes a new reporting requirement on certain entities (“reporting companies”) to file with FinCEN reports that identify the entities' beneficial owners, as well as, in certain cases, the individual who directly filed the document with specified governmental authorities that created the entity or registered it to do business, as well as the individual who was primarily responsible for directing or controlling such filing, if more than one individual was involved in the filing of the document (“company applicants”).⁴ The reports are to be filed electronically through an online interface. The report must also contain information about the entity itself. The reporting company must certify that the report is true, correct, and complete. The rule also requires that reporting companies update the information in these reports as needed, and correct any previous incorrectly reported information, within specific timeframes. The collected information will be maintained by FinCEN and made accessible to authorized users.

⁴ 31 U.S.C. 5336(b) and 31 CFR 1010.380(b).

Report: None.

Affected Public: Domestic entities that are: (1) corporations; (2) limited liability companies; or (3) created by the filing of a document with a secretary of state or any similar office under the law of a state or Indian tribe, and foreign entities that are: (1) corporations, limited liability companies, or other entities; (2) formed under the law of a foreign country; and (3) registered to do business in any state or Tribal jurisdiction by the filing of a document with a secretary of state or any similar office under the laws of a state or Indian tribe. The rule does not require corporations, limited liability companies, or other entities that are described in any of 23 specific exemptions ⁵ to file BOI reports, except that certain foreign legal entities that qualify as pooled investment vehicles must report the BOI of an individual who exercises substantial control over the pooled investment vehicle.⁶

⁵ See 31 CFR 1010.380(c)(2).

⁶ See 31 CFR 1010.380(b)(2)(iii). The special reporting rule for foreign pooled investment vehicle specifies that, “[i]f more than one individual exercises substantial control over the entity, the entity shall report information with respect to the individual who has the greatest authority over the strategic management of the entity.”

Estimated Number of Respondents: As explained in detail in the final BOI reporting rule regulatory impact analysis (RIA), the number of entities that are reporting companies is difficult to estimate.⁷ FinCEN assumes that all entities created or registered prior to the effective date of January 1, 2024, that are subject to the BOI reporting requirement will submit their initial BOI reports in Year 1 (2024), as required by the rule. Therefore, FinCEN estimates that 32,556,929 entities will submit initial BOI reports in Year 1 (2024).⁸ In Year 2 (2025) and beyond, FinCEN estimates that the number of initial BOI reports filed will be 4,998,468 per year, which is the same estimate as the number of new entities per year that meet the definition of reporting company and are not exempt.⁹ The total five-year average of expected BOI initial reports is 10,510,160. In order to estimate the total burden hours and costs associated with the reporting requirement, FinCEN further assesses a distribution of the reporting companies' beneficial ownership structure. FinCEN assumes that 59 percent of reporting companies will have a simple structure (i.e., 1 beneficial owner who is also the company applicant), 36.1 percent will have an intermediate structure (i.e., 4 beneficial owners and 1 company applicant), and 4.9 percent will have a complex structure (i.e., 8 beneficial owners and 2 company applicants). FinCEN estimates that 6,578,732 updated BOI reports will be filed in Year 1 (2024), and 14,456,452 such reports will be filed annually in Year 2 (2025) and beyond.¹⁰ The total five-year average of expected BOI update reports is 12,880,908.

⁷ Refer to the final BOI reporting rule RIA for a detailed description of these estimates. See 87 FR 59589 (Sept. 30, 2022).

⁸ Refer to the final BOI reporting rule RIA cost analysis for the underlying sources and analysis related to this estimate. See 87 FR 59562-59579 (Sept. 30, 2022).

⁹ Refer to the final BOI reporting rule RIA cost analysis for the underlying sources and analysis related to this estimate. As noted therein, for analysis purposes FinCEN assumes that the number of new entities per year from years 2 through 10 (2025 to 2033) will be the same as the 2024 new entity estimate, which accounts for a growth factor of 13.1 percent per year from the date of the underlying source (2020) through 2024. Annually thereafter, FinCEN assumes no change in the number of new entities. FinCEN provides an alternative cost analysis in the conclusion section where the 13.1 percent growth factor continues throughout the entire 10-year time horizon of the analysis (i.e., through 2033). However, this growth factor is possibly an overestimate given that it is a based on a relatively narrow timeframe of data (two years). See 87 FR 59562-59579 (Sept. 30, 2022).

¹⁰ Refer to the final BOI reporting rule RIA cost analysis for the underlying sources and analysis related to these estimates. See 87 FR 59562-59579 (Sept. 30, 2022).

Frequency of Response: As required.¹¹

¹¹ For BOI reports, there is an initial filing and subsequent filings; the latter are required as information changes or if previously reported information was incorrect.

Estimated Time per Respondent: FinCEN has updated the estimated time burden per respondent to account for comments received to the notice of proposed rulemaking (NPRM) that preceded the final BOI reporting rule.¹² Considering the comments and the final BOI reporting rule, it is apparent that the time burden for filing initial BOI reports will vary depending on the complexity of the reporting company's structure. FinCEN therefore estimates a range of time burdens associated with filing an initial BOI report to account for the likely variance among reporting companies. FinCEN estimates the average burden of reporting BOI as 90 minutes per response for reporting companies with simple beneficial ownership structures (40 minutes to read the form and understand the requirement, 30 minutes to identify and collect information about beneficial owners and company applicants, and 20 minutes to fill out and file the report, including attaching an image of an acceptable identification document for each beneficial owner and company applicant). FinCEN estimates the average burden of reporting BOI as 650 minutes per response for reporting companies with complex beneficial ownership structures (300 minutes to read the form and understand the requirement, 240 minutes to identify and collect information about beneficial owners and company applicants, and 110 minutes to fill out and file the report, including attaching an image of an acceptable identification document for each beneficial owner and company applicant). FinCEN estimates the average burden of updating such reports for reporting companies with simple beneficial ownership structures as 40 minutes per update (20 minutes to identify and collect information about beneficial owners or company applicants and 20 minutes to fill out and file the update). FinCEN estimates the average burden of updating such reports for reporting companies with complex beneficial ownership structures as 170 minutes per update (60 minutes to identify and collect information about beneficial owners or company applicants and 110 minutes to fill out and file the update). FinCEN also assesses that reporting companies with intermediate beneficial ownership structures will have a time burden that is the average of the time burden for reporting companies with simple structures and those with complex structures.

¹² 86 FR 69920 (Dec. 8, 2021).

Estimated Total Reporting Burden Hours: FinCEN estimates that during Year 1 (2024), the filing of initial BOI reports will result in approximately 118,572,335 burden hours for reporting companies.¹³ In Year 2 (2025) and beyond, FinCEN estimates that the filing of initial BOI reports will result in 18,204,421 burden hours annually for new reporting companies.¹⁴ The five-year average of burden hours for initial BOI reports is 38,278,004 hours. FinCEN estimates that filing BOI updated reports in Year 1 (2024) will result in approximately 7,657,096 burden hours for reporting companies.¹⁵ In Year 2 (2025) and beyond, the estimated number of burden hours for updated reports will be 16,826,105.¹⁶ The five-year average of burden hours for updated BOI reports is 14,992,203 hours. The total five-year average of burden hours for BOI reports is 53,270,307.

¹³ ((0.59 × 32,556,929) × (90/60)) + ((0.361 × 32,556,929) × (370/60)) + ((0.049 × 32,556,929) × (650/60)) = 118,572,335.

¹⁴ ((0.59 × 4,998,468) × (90/60)) + ((0.361 × 4,998,468) × (370/60)) + ((0.049 × 4,998,468) × (650/60)) = 18,204,421.

¹⁵ ((0.59 × 6,578,732) × (40/60)) + ((0.361 × 6,578,732) × (105/60)) + ((0.049 × 6,578,732) × (170/60)) = 7,657,096.

¹⁶ ((0.59 × 14,456,452) × (40/60)) + ((0.361 × 14,456,452) × (105/60)) + ((0.049 × 14,456,452) × (170/60)) = 16,826,105.

Estimated Total Reporting Cost: Considering the comments received in response to the NPRM, the final BOI reporting rule makes clear that the costs for filing initial BOI reports will vary depending on the complexity of a reporting company's structure. FinCEN therefore estimates a range of costs associated with filing an initial BOI report to account for the likely variance among reporting companies. FinCEN estimates the average cost of filing an initial BOI report per reporting company to be a range of $85.14 for entities with simple beneficial ownership structures to $2,614.87 for entities with complex beneficial ownership structures.¹⁷ FinCEN estimates the average cost of filing an updated BOI report per reporting company to be $37.84 to $560.81.¹⁸

¹⁷ (90/60) × $56.76 = $85.14 and ((650/60) × $56.76) + $2,000 = $2,614.87.

¹⁸ (40/60) × $56.76 = $37.84 and ((170/60) × $56.76) + $400 = $560.81.

For initial BOI reports, the range of total costs in Year 1 (2024), assuming for the lower bound that all reporting companies are simple structures and assuming for the upper bound that all reporting companies are complex structures, is $2.8 billion to $85.1 billion.¹⁹ Applying the distribution of reporting companies' structures explained in connection with Table 1, FinCEN calculates total costs in Year 1 (2024) of initial BOI reports to be $21.7 billion.²⁰ In Year 2 (2025) and onward, in which FinCEN assumes that initial BOI reports will be filed by newly created entities, the range of total costs is $425.6 million to $13.1 billion annually.²¹ Applying the reporting companies' structure distribution, the estimated total cost of initial BOI reports annually in Year 2 (2025) and onward is $3.3 billion.²² ²³

¹⁹ (32,556,929 × $85.14) = $2,771,769,963.58 and (32,556,929 × $2,614.87) = $85,132,196,638.53.

²⁰ ((0.59 × 32,556,929) × $85.14) + ((0.361 × 32,556,929) × $1,350.00) + ((0.049 × 32,556,929) × $2,614.87) = $21,673,487,885.48.

²¹ (4,998,468 × $85.14) = $425,550,075.79 and (4,998,468 × $2,614.87) = $13,070,353,315.07.

²² ((0.59 × 4,998,468) × $85.14) + ((0.361 × 4,998,468) × $1,350.00) + ((0.049 × 4,998,468) × $2,614.87) = $3,327,532,419.21

²³ FinCEN assumes that each reporting company will make one initial BOI report. Given the implementation period of one year to comply with the rule for entities that were formed or registered prior to the effective date of the final BOI reporting rule, FinCEN assumes that all the entities that meet the definition of reporting company will submit their initial BOI reports in Year 1 (2024), totaling 32.6 million reports. Additionally, FinCEN has applied a 6.83 percent growth factor each year since the date of the underlying source (2020) to account for the creation of new entities. For analysis purposes, FinCEN assumes that the number of new entities per year from years 2 through 10 (2025 to 2033) will be the same as the 2024 new entity estimate, which accounts for a growth factor of 13.1 percent per year from the date of the underlying source (2020) through 2024. Annually thereafter, FinCEN assumes no change in the number of new entities. FinCEN provides an alternative cost analysis in the conclusion section where the 13.1 percent growth factor continues throughout the entire 10-year time horizon of the analysis (i.e., through 2033). However, this growth factor is possibly an overestimate given that it is a based on a relatively narrow timeframe of data (two years).

For updated BOI reports, the range of total costs in Year 1 (2024), assuming for the lower bound that all reporting companies are simple structures and assuming for the upper bound that all reporting companies are complex structures, is $249 million to $3.7 billion.²⁴ Applying the distribution of reporting companies' structures, FinCEN calculates total costs in Year 1 (2024) of updated BOI reports to be $1 billion.²⁵ In Year 2 (2025) and onward, the range of total costs is $547 million to $8.1 billion annually.²⁶ Applying the reporting companies' structure distribution, the estimated total cost of updated BOI reports annually in Year 2 (2025) and onward is $2.3 billion.²⁷ The total five-year average of costs is $6,996,732,512 for initial reports and $2,033,391,518 for updated reports.

²⁴ (6,578,732 × $37.84) = $248,927,811.14 and (6,578,732 × $560.81) = $3,689,435,948.74.

²⁵ ((0.59 × 6,578,732) × $37.84) + ((0.361 × 6,578,732) × $299.33) + ((0.049 × 6,578,732) × $560.81) = $1,038,524,428.72.

²⁶ (14,456,452 × $37.84) = $547,007,086.12 and (14,456,452 × $560.81) = $8,107,360,919.04.

²⁷ ((0.59 × 14,456,452) × $37.84) + ((0.361 × 14,456,452) × $299.33) + ((0.049 × 14,456,452) × $560.81) = $2,282,108,290.77.

Please note, there are no non-labor costs associated with these collections of information, because FinCEN assumes that reporting companies already have the necessary equipment and tools to comply with the regulatory requirements.

Request for Comments

An agency may not conduct or sponsor, and a person is not required to respond to, a collection of information unless it displays a valid OMB control number. Comments submitted in response to this notice will be summarized and included in the request for OMB approval. All comments will become a matter of public record. Comments are invited on: (a) whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Himamauli Das,
Acting Director, Financial Crimes Enforcement Network.

Appendix—Beneficial Ownership Information (BOI) Report Summary of Data Fields

Note: Lines that must be filled in for a report to be accepted are identified with the * symbol next to the line number. Italicized text provides a description and/or explanation of lines and response options for purposes of this PRA notice.

Filing Information

1. * Type of filing (check only one box for lines 1a-1d)

a. Initial report

b. Correct prior report (if this box is checked, then you must fill out lines 1e-1h (Reporting Company information associated with most recent report))

c. Update prior report (if this box is checked, then you must fill out lines 1e-1h (Reporting Company information associated with most recent report))

d. New exempt entity (if this box is checked, then you must fill out lines 1e-1h (Reporting Company information associated with most recent report) and no other lines in the report)

Reporting Company information associated with most recent report, if any: (Lines 1e-1h must be filled out when the type of filing is “Correct prior report” (line 1b), “Update prior report” (line 1c), or “Newly exempt entity” (line 1d) in order to link the new filing to the previous filing)

e. Legal name

f. Tax identification type (select one from list of options)

EIN

SSN/ITIN

Foreign

g. Tax identification number

h. Country/Jurisdiction (if foreign tax ID only) (select from list of countries/jurisdictions)

2. Date prepared (assigned automatically when filer finalizes report) (line 2 populates automatically with the date when the filer selects “Finalize” on the form)

Part I. Reporting Company Information

3. Request to receive FinCEN Identifier (FinCEN ID) (check the box to receive a FinCEN ID)

4. Foreign pooled investment vehicle (check the box if Reporting Company is a foreign pooled investment vehicle)

Full legal name and alternate name(s):

5. * Reporting Company legal name

6. Alternate name (e.g., trade name, DBA) (multiple alternate names may be reported)

Form of identification:

7. * Tax identification type (select one from list of options)

EIN

SSN/ITIN

Foreign

8. * Tax identification number

9. Country/Jurisdiction (if foreign tax ID only) (select from list of countries/jurisdictions)

Jurisdiction of formation or first registration:

10. * a. Country/Jurisdiction of formation (select from list of countries/jurisdictions, including the United States, each U.S. Territory,²⁸ and all foreign countries. If United States is selected, complete lines 10b, 10c, or 10d as applicable; if a U.S. Territory is selected, line 10b populates automatically with the selected U.S. Territory; if a foreign country is selected, complete lines 10e, 10f, or 10g as applicable.)

²⁸ U.S. Territories are considered part of the United States for purposes of determining the reporting obligations of domestic and foreign Reporting Companies. However, per ISO standard 3166-1, U.S. Territories are listed as jurisdictions separate from the United States for database management purposes.

Domestic Reporting Company:

b. State of formation (select from list of U.S. States; if a U.S. Territory is selected in line 10a, line 10b populates automatically with the selected U.S. Territory)

c. Tribal jurisdiction of formation (select from list of Tribes and “Other Tribe”)

d. Name of other Tribe (enter name of other Tribe not included in list for line 10c, only available if “Other Tribe” selected in line 10c)

Foreign Reporting Company:

e. State of first registration (select from list of U.S. States and U.S. Territories)

f. Tribal jurisdiction of first registration (select from list of Tribes and “Other Tribe”)

g. Name of other Tribe (enter name of other Tribe not included in list for line 10f, only available if “Other Tribe” selected in line 10f)

Current U.S. address:

11. * Address (number, street, and apt. or suite no.)

12. * City

13. * U.S. or U.S Territory

14. * State (select from list of U.S. States; if a U.S. Territory is selected in line 13, line 14 populates automatically with the selected U.S. Territory)

15. * ZIP Code

16. Existing Reporting Company (check if Reporting Company was created or registered before January 1, 2024) (if this box is checked, then Company Applicant information is not required)

Part II. Company Applicant Information (report up to two Company Applicants, lines 18-33 are repeated for each Company Applicant)

17. Unable to identify all Company Applicants (check if you are unable to obtain any required information about one or more Company Applicants)

Company Applicant FinCEN ID:

18. FinCEN ID (if FinCEN Identifier is not provided, information about the Company Applicant must be provided in the lines below)

Full legal name:

19. * Individual's last name

z. Unknown (check the box if you are not able to obtain this information about the Company Applicant)

20. * First name

z. Unknown (check the box if you are not able to obtain this information about the Company Applicant)

21. Middle name (required if the Company Applicant has a middle name)

22. Suffix (required if the Company Applicant's name has a suffix)

Date of birth:

23. * Date of birth

z. Unknown (check the box if you are not able to obtain this information about the Company Applicant)

Current address:

24. * Address type (check the appropriate box for lines 24a, 24b, or 24z)

a. Business address

b. Residential address

z. Unknown (check the box if you are not able to obtain this information about the Company Applicant)

25. * Address (number, street, and apt. or suite no.)

z. Unknown (check the box if you are not able to obtain this information about the Company Applicant)

26. * City

z. Unknown (check the box if you are not able to obtain this information about the Company Applicant)

27. * Country/Jurisdiction (select from list of countries/jurisdictions)

z. Unknown (check the box if you are not able to obtain this information about the Company Applicant)

28. * State (select from list when United States, Canada, or Mexico is the country/jurisdiction selected in line 27; if a U.S. Territory is the country/jurisdiction selected in line 27, line 28 populates automatically with the selected U.S. Territory; if a foreign country is the country/jurisdiction selected in line 45, line 46 remains empty)

z. Unknown (check the box if you are not able to obtain this information about the Company Applicant)

29. * ZIP/Foreign postal code

z. Unknown (check the box if you are not able to obtain this information about the Company Applicant)

Form of identification and issuing jurisdiction:

30. * Identifying document type (select one from list of lines 30a-30d or check box 30z)

a. State-issued driver's license

b. State/local/Tribe-issued ID

c. U.S. passport

d. Foreign passport

z. Unknown (check the box if you are not able to obtain this information about the Company Applicant)

31. * Identifying document number

z. Unknown (check the box if you are not able to obtain this information about the Company Applicant)

32. * Identifying document issuing jurisdiction (select country/jurisdiction in line 32a or checkbox 32z, and complete lines 32b-32d if applicable)

a. Country/Jurisdiction (select from list of countries/jurisdictions)

z. Unknown (check the box if you are not able to obtain this information about the Company Applicant)

b. State (select from list when the United States is the country/jurisdiction selected in line 32a and the identifying document is issued by a State; if a U.S. Territory is the country/jurisdiction selected in line 32a, line 32b populates automatically with the selected U.S. Territory; if a foreign country is the country/jurisdiction selected in line 32a, line 32b remains empty)

z. Unknown (check the box if you are not able to obtain this information about the Company Applicant)

c. Local/Tribal (select from list when the United States is the country/jurisdiction selected in line 32a and the identifying document is issued by a local jurisdiction or Tribe; if local jurisdiction or Tribe is not included in list, select “Other” and go to line 32d; if a U.S. territory or foreign country is the country/jurisdiction selected in line 32a, line 32c remains empty)

z. Unknown (check the box if you are not able to obtain this information about the Company Applicant)

d. Other local/Tribal name (only available if “Other” selected in line 32c; enter name of local jurisdiction or Tribe that was not included in the list for line 32c)

33. * Identifying document image (attach image of identifying document referred to in lines 31-33) (instructions on upload process will be provided here)

a. Unknown (check the box if you are not able to obtain this information about the Company Applicant)

Part III. Beneficial Owner Information (multiple Beneficial Owners may be reported, lines 35-51 are repeated for each Beneficial Owner)

34. Unable to identify all Beneficial Owners (check if you are unable to obtain any required information on one or more Beneficial Owners)

35. Parent/Guardian information instead of minor child (check if the Beneficial Owner is a minor child and the parent/guardian information is provided instead)

Beneficial Owner FinCEN ID:

36. FinCEN ID (if FinCEN Identifier is not provided, information about the Beneficial Owner must be provided in the lines below)

Exempt entity:

37. Exempt entity (check the box when an exempt entity is being reported in lieu of a Beneficial Owner's information; if checked, provide the legal name of the exempt entity in line 38, and lines 39-41 are grayed out)

Full legal name:

38. * Individual's last name (or Exempt entity's legal name if line 37 box is checked

z. Unknown (check the box if you are not able to obtain this information about the Beneficial Owner)

39. * First name

z. Unknown (check the box if you are not able to obtain this information about the Beneficial Owner)

40. Middle name (required if the Beneficial Owner has a middle name)

41. Suffix (required if the Beneficial Owner's name has a suffix)

Date of birth:

42. * Date of birth

z. Unknown (check the box if you are not able to obtain this information about the Beneficial Owner)

Residential address:

43. * Address (number, street, and apt. or suite no.)

z. Unknown (check the box if you are not able to obtain this information about the Beneficial Owner)

44. * City

z. Unknown (check the box if you are not able to obtain this information about the Beneficial Owner)

45. * Country/Jurisdiction (select from list of countries/jurisdictions)

z. Unknown (check the box if you are not able to obtain this information about the Beneficial Owner)

46. * State (select from list when United States, Canada, or Mexico is the country/jurisdiction selected in line 45; if a U.S. Territory is the country/jurisdiction selected in line 45, line 46 populates automatically with the selected U.S. Territory; if a foreign country is the country/jurisdiction selected in line 45, line 46 remains empty)

z. Unknown (check the box if you are not able to obtain this information about the Beneficial Owner)

47. * ZIP/Foreign postal code

z. Unknown (check the box if you are not able to obtain this information about the Beneficial Owner)

Form of identification and issuing jurisdiction:

48. * Identifying document type (select one from list of lines 48a-48d or checkbox 48z)

a. State-issued driver's license

b. State/local/Tribe-issued ID

c. U.S. passport

d. Foreign passport

z. Unknown (check the box if you are not able to obtain this information about the Beneficial Owner)

49. * Identifying document number

z. Unknown (check the box if you are not able to obtain this information about the Beneficial Owner)

50. * Identifying document issuing jurisdiction (select country/jurisdiction in line 50a or checkbox 50z, and complete lines 50b-50d if applicable)

a. Country/Jurisdiction (select from list of countries/jurisdictions)

z. Unknown (check the box if you are not able to obtain this information about the Beneficial Owner)

b. State (select from list when the United States is the country/jurisdiction selected in line 50a and the identifying document is issued by a State; if a U.S. Territory is the country/jurisdiction selected in line 50a, line 50b populates automatically with the selected U.S. Territory; if a foreign country is the country/jurisdiction selected in line 50a, line 50b remains empty)

z. Unknown (check the box if you are not able to obtain this information about the Beneficial Owner)

c. Local/Tribal (select from list when the United States is the country/jurisdiction selected in line 50a and the identifying document is issued by a local jurisdiction or Tribe (if local jurisdiction or Tribe is not included in the list, select “Other” and go to line 50d); if a U.S. Territory or foreign country is the country/jurisdiction selected in line 50a, line 50c remains empty)

z. Unknown (check the box if you are not able to obtain this information about the Beneficial Owner)

d. Other local/Tribal name (only available if “Other” selected in line 50c; enter name of local jurisdiction or Tribe that was not included in list for line 50c)

51. * Identifying document image (attach image of identifying document referred to in in lines 48-50) (instructions on upload process will be provided here)

z. Unknown (check the box if you are not able to obtain this information about the Beneficial Owner)

[FR Doc. 2023-00703 Filed 1-13-23; 8:45 am]

BILLING CODE 4810-02-P